DEPARTMENT OF HEALTH AND HUMAN SERVICES

Agency for Healthcare Research and Quality

Preliminary Measure Set for the National Healthcare Quality Report

Request for Comments

The Agency for Healthcare Research and Quality (AHRQ) announces a request for public comment on the Preliminary Measure Set to be used in preparing the first National Healthcare Quality Report (NHQR). The NHQR is a congressionally mandated report (see 42 U.S.C. 299b-2(b)(2)) on national trends with respect to health care quality. The legislation mandated that the Agency for Healthcare Research and Quality (AHRQ) submit this report on an annual basis beginning in 2003. The Preliminary Measure Set for the NHQR was generated through a call for measures to Federal agencies and private organizations. AHRQ issued a call for measures to Federal agencies, through the Quality Interagency Coordination Task Force (QuIC), from October 2000-February 2001. The Institute of Medicine issued the call to private organizations from June-July 2000. An interagency Department of Health and Human Services (DHHS) working group then reviewed and revised the candidate measures. AHRQ and the interagency working group are seeking comments on (1) the extent to which the proposed measures meet the criteria of importance, scientific soundness, and feasibility; (2) the balance, comprehensiveness, and robustness of the overall measure set; and (3) the appropriateness of the data sources.

Comments Deadline

Written comments will be accepted by September 18, 2002. For submission of written comments and additional information: Ed Kelley, Ph.D., Senior Service Fellow, National Healthcare Quality Report, Center for Quality Improvement and Patient Safety, Agency for Healthcare Research and Quality, 6011 Executive Boulevard, Suite 200, Rockville, MD 20852, Fax: (301) 594-2155, E-mail: ekelley@ahrg.gov.

Availability of Preliminary Measure Set

Copies of the Preliminary Measure Set are available from the AHRQ Web site at: http://www.ahrg.gov/qual/measurix.htm. For organizations without access to the Internet, AHRQ will make a paper version available either through overnight mail or by fax upon written request. Requests for paper versions of the preliminary measure set should be faxed to the above number.

Public Review of Comments

Comments and responses received will be available for public inspection at AHRQ's Information Resource Center (IRC) public reading room between the hours of 8:30 a.m. and 5 p.m. on regular business days at 2101 East Jefferson Street, Suite 500, Rockville, MD 20852. Arrangements for viewing public comments may be made by calling (301) 594-6349. Responses may also be accessed through AHRQ's Electronic Freedom of Information Reading Room on AHRQ's Web site at http://www.ahrq.gov/news/foiaindx.htm.

Dated: August 9, 2002.
Carolyn M. Clancy,
Acting Director.

[FR Doc. 02-20920 Filed 8-6-02; 8:45 am]

BILLING CODE 4160-90-M